DEPARTMENT OF COMMERCE

National Institute of Standards and Technology

National Institute of Standards and Technology Performance Review Board Membership

AGENCY: National Institute of Standards and Technology, Department of Commerce.

ACTION: Notice.

SUMMARY: This notice lists the membership of the National Institute of Standards and Technology Performance Review Board (NIST PRB) and supersedes the list published on August 13, 2012.

DATES: The changes to the NIST PRB membership list announced in this notice are effective on August 30, 2013.

FOR FURTHER INFORMATION CONTACT: Didi Hanlein at the National Institute of Standards and Technology, (301) 975-3000 or by email at desiree.hanlein@nist.gov.

SUPPLEMENTARY INFORMATION:

The National Institute of Standards and Technology Performance Review Board (NIST PRB or Board) reviews performance appraisals, agreements, and recommended actions pertaining to employees in the Senior Executive Service and ST-3104 employees. The Board makes recommendations to the appropriate appointing authority concerning such matters so as to ensure the fair and equitable treatment of these individuals.

This notice lists the membership of the NIST PRB and supersedes the list published in the Federal Register on August 13, 2012 (77 FR 48129).

NIST PRB Members

Delwin Brockett (C), Chief Information Officer, National Institute of Standards & Technology, Gaithersburg, MD 20899, Appointment Expires: 12/31/13.

Richard Cavanagh (C) (alternate), Director, Special Programs Office, National Institute of Standards & Technology, Gaithersburg, MD 20899, Appointment Expires: 12/31/15.

Kevin Kimball (C) (alternate), Chief of Staff, National Institute of Standards & Technology, Gaithersburg, MD 20899, Appointment Expires: 12/13/15.

Laurie Locascio (C), Director, Material Measurement Laboratory, National Institute of Standards & Technology, Gaithersburg, MD 20899, Appointment Expires: 12/31/15.

James Olthoff (C) (alternate), Deputy Director for Measurement Services, National Institute of Standards & Technology, Gaithersburg, MD 20899, Appointment Expires: 12/31/15.

Kimberly Thompson Glas (NC), Deputy Assistant Secretary for Textiles and Apparel, International Trade Administration, Department of Commerce, Washington, DC 20230, Appointment Expires: 12/31/15.

Maureen Wylie (C), Chief, Resource and Operations Management, National Oceanic and Atmospheric Administration, Department of Commerce, Washington, DC 20230, Appointment Expires: 12/31/15.

Dated: August 26, 2013.
Mary H. Saunders,
Associate Director for Management Resources.

[FR Doc. 2013-21263 Filed 8-29-13; 8:45 am]

BILLING CODE 3510-13-P